DEPARTMENT OF TRANSPORTATION

Research and Special Programs Administration

Actions on Exemption Applications

AGENCY: Research and Special Programs Administration, DOT.

ACTION: Notice of actions on exemption applications.

SUMMARY: In accordance with the procedures governing the application for, and the processing of, exemptions from the Department of Transportation's Hazardous Materials Regulations (49 CFR Part 107, Subpart B), notice is hereby given of the actions on exemption applications in April-June 2002. The modes of transportation involved are identified by a number in the “Nature of Application” portion of the table below as follows: 1—Motor vehicles, 2—Rail freight, 3—Cargo vessel, 4—Cargo aircraft only, 5—Passenger-carrying aircraft. Application numbers prefixed by the letters EE represent applications for Emergency Exemptions. It should be noted that some of the sections cited were those in effect at the time certain exemptions were issued.

Issued in Washington, DC, on July 19, 2002.
R. Ryan Posten,
Exemptions Program Officer, Office of Hazardous Materials Exemptions and Approvals.

Application No. | Exemption No. | Applicant | Regulation(s) affected | Nature of exemption thereof
MODIFICATION EXEMPTIONS
4453-M | DOT-E 4453 | Dyno Nobel, Inc., Salt Lake City, UT | 49 CFR 172.101, 173.62, 176.415, 176.83, Column (8C) | To modify the exemption to authorize the transportation of additional Division 1.5D liquid blasting explosives in non-DOT specification bulk cargo tanks, trailers and motor vehicles.
6805-M | DOT-E 6805 | Air Liquide America Corporation, Houston, TX | 49 CFR 173.301(d), 173.302(a) (3) | To modify the exemption to authorize the use of DOT Specification 3A and 3AA cylinders as additional packaging for the transportation of Division 2.1 and 2.3 materials and a language clarification of the low pressure cylinders for transporting carbon monoxide.
7007-M | DOT-E 7007 | Allied Universal Corp., Miami, FL | 49 CFR 173.314(c), 179.3 | To modify the exemption to authorize the use of additional non-DOT specification multi-unit tank car tanks with minimum shell thickness for the transportation of Division 2.3 materials.
7657-M | DOT-E 7657 | Welker Engineering Company, Sugar Land, TX | 49 CFR 173.201, 173.202, 173.203, 173.302(a)(1), 173.304(a)(1), 173.304(b)(1), 175.3 | To modify the exemption to authorize the transportation of additional Division 2.1, 2.2, 2.3 and Class 3 materials in a non-DOT specification stainless steel cylinder.
7765-M | DOT-E 7765 | Carleton Technologies, Inc., Orchard Park, NY | 49 CFR 173.302(a)(4), 175.3 | To modify the exemption to authorize the use of an additional non-DOT specification cylinder bottle assembly unit for the transportation of Division 2.2 materials.
8215-M | DOT-E 8215 | Olin Corp., Brass & Winchester, Inc., East Alton, IL | 49 CFR 172.320, 173.230, 173.62(c), Part 172, Subpart E | To modify the exemption to authorize the addition of a Division 1.1D material and for Division 1.1A and 1.1D materials to be transported in a newly designed motor vehicle (trailer).
8439-M | DOT-E 8439 | Kidde Aerospace, Wilson, NC | 49 CFR 173.302, 173.304, 175.3 | To modify the exemption to authorize the transportation of an additional Division 2.2 material in non-DOT specification cylinders.
8451-M | DOT-E 8451 | Olin Corporation, Winchester Group, East Alton, IL | 49 CFR 173.3, 173.52, 173.54, 173.60, 174.3, 175.3, 177.801 | To modify the exemption to authorize an alternative outer packaging for the transportation of not more than 25 grams of explosive or pyrotechnic materials classed as Division 1.4E.
8554-M | DOT-E 8554 | TRADESTAR Corporation, West Jordan, UT | 49 CFR 173.154, 173.93 | To modify the exemption to authorize a new cargo tank design for the transportation of Division 1.5 and 5.1 materials in bulk.
8723-M | DOT-E 8723 | Dyno Nobel, Inc., Salt Lake City, UT | 49 CFR 172.101, 173.242, 173.62, 176.83, 177.848 | To modify the exemption to authorize the transportation of additional Division 1.5D liquid blasting explosives in non-DOT specification bulk cargo tanks, trailers and motor vehicles.
9884-M | DOT-E 9884 | Puritan Bennett Corp (Div. of Tyco Healthcare), Indianapolis, IN | 49 CFR 173.316 | To modify the exemption to authorize the use of a blazing procedure for bonding of the non-DOT specification cylinder tubes with the heads for the transportation of certain Division 2.2 materials.
10427-M | DOT-E 10427 | Astrotech Space Operations, Inc., Titusville, FL | 49 CFR 173.301, 173.302, 173.336, 173.61(d), 177.848(d) | To modify the exemption to authorize two additional launch vehicles that will utilize their fairing for packaging of spacecrafts during transport and a quantity increase of several hazardous materials contained in the “flight-ready” spacecraft.
10427-M | DOT-E 10427 | Astrotech Space Operations, Inc., Titusville, FL | 49 CFR 173.301, 173.302, 173.336, 173.61(d), 177.848(d) | To authorize the shipment of Division 1.1 detonating cord and to correct the quantity of Xenon to 700 pounds.
10677-M | DOT-E 10677 | Primus AB, Solna, SW | 49 CFR 173.304(d)(3)(ii) | To modify the exemption to authorize the transportation of additional Division 2.1 materials and an increase in maximum charging pressure.
10751-M | DOT-E 10751 | Dyno Nobel, Inc., Salt Lake City, UT | 49 CFR 177.823, 177.835(c)(3), 177.848 | To modify the exemption to authorize the transportation of Division 1.5D liquid blasting explosives in non-DOT specification bulk cargo tanks, trailers and motor vehicles.
10869-M | DOT-E 10869 | Norris Cylinder Company, Longview, TX | 49 CFR 173.301(b), 173.302(a)(5), 173.304(a), 175.3 | To modify the exemption to authorize an increase in service pressure from 5000-psi to a maximum of 6000-psi for the non-DOT specification steel cylinders transporting certain Division 2.1, 2.2, 2.3 materials.
10929-M | DOT-E 10929 | Ashland Inc., Columbus, OH | 49 CFR 172.302(c), 174.67(i)(j) | To modify the exemption of authorize the transportation of additional Class 3 materials in DOT Specification tank cars.
11344-M | DOT-E 11344 | E.I. DuPont de Nemours & Company, Inc. Wilmington, DE | 49 CFR 172.302(c), 174.67(i), (j) | To modify the exemption to authorize the transportation of an additional Division 6.1 material in DOT Specification tank cars.
11379-M | DOT-E 11379 | TRW Automotive Occupant Safety Systems, Washington, MI | 49 CFR 173.301(h), 173.302 | To modify the exemption to authorize the use of the non-DOT specification pressure vessels in non-automotive safety systems.
11579-M | DOT-E 11579 | Dyno Nobel, Inc., Salt Lake City, UT | 49 CFR 177.848(e)(2), 177.848(g)(3) | To modify the exemption to authorize the transportation of additional Division 1.5D liquid blasting explosives in non-DOT specification cargo tanks.
11803-M | DOT-E 11803 | Chart, Inc. (Storage Systems Div.), Plaistow, NH | 49 CFR 172.203(a), 173.26, 173.319, 179.13, 179.401-1 | To modify the exemption to authorize an increase of the maximum gross weight on rail from 263,000 lbs. to 286,000 lbs. for the transportation of Division 2.2 materials in DOT Specification tank cars.
12102-M | DOT-E 12102 | Onyx Environmental Services. L.L.C., Ledgewood, NJ | 49 CFR 173.56(b), 173.56(i) | To modify the exemption to authorize the transportation of an additional Division 1.1D explosive material desensitized in an appropriate solvent to be shipped as a Class 3 material.
12196-M | DOT-E 12196 | HR Textron, Pacoima, CA | 49 CFR 173.302(a), 173.34(e), 175.3 | To modify the exemption to authorize the hydrostatic retest period from 5 to 18 years for non-DOT specification stainless steel alloy cylinders used for the transportation of Division 2.2 materials.
12442-M | DOT-E 12442 | Cryogenic Vessel Alternatives, La Porte, TX | 49 CFR 176.76(g)(1), 178.318 | To modify the exemption to authorize an increased service pressure from 45 psig to 100 psig for the 2200 gallon capacity internal insulated portable tank for the transportation of Division 2.2 materials.
12818-M | DOT-E 12818 | HRD Aero Systems Inc., Valencia, CA | 49 CFR 173.301(i), 173.302 | To reissue the exemption originally issued on an emergency basis for the transportation of certain foreign non-DOT specification steel cylinders used as components (fire extinguishers) in aircraft.
12882-M | DOT-E 12882 | Eagle-Picher Technologies, LLC, Joplin, MO | 49 CFR 173.302(a), 173.34(d), 175.3 | To reissue the exemption originally issued on an emergency basis for the transportation of a Division 2.1 material in a non-DOT specification pressure vessel.
12885-M | DOT-E 12885 | U.S. Department of Agriculture, Forest Service, Missoula, MT | 49 CFR 173.202(c) | To modify the exemption to authorize eliminating the requirement that the pump in the helitorch frame be an explosion proof diaphragm fuel transfer pump when transporting a Class 3 material.
NEW EXEMPTIONS
12433-N | DOT-E 12433 | The Lighter Company, Inc., Miami, FL | 49 CFR 173.308(b) | To authorize the transportation and reclassification of lighters in limited quantities to be transported as ORM-D. (mode 1)
12634-N | DOT-E 12634 | Norman International, Los Angeles, CA | 49 CFR 173.12(b)(2) | To authorize the manufacture, mark, sale and use of a corrugated fiberboard box as the outer packaging for lab pack applications in accordance with section 173.12(b). (modes 1, 2)
12661-N | DOT-E 12661 | United Parcel Service (UPS), Atlanta, GA | 49 CFR 172.202, 172.203(c), (k), (m), 172.301, 172.302(c), 172.400 | To authorize the transportation in commerce of certain hazardous materials that are not properly packaged, marked, labeled or classed in accordance with the 49 CFR. (mode 1)
12690-N | DOT-E 12690 | Air Liquide America Corporation, Houston, TX | 49 CFR 173.304(a)(2), Note 2 | To authorize the transportation in commerce of DOT specification 3AA cylinders having a water capacity of approximately 950 pounds, which when filled, would exceed the 150 pound limit for use in transporting chlorine. (mode 1)
12716-N | DOT-E 12716 | Air Liquide America Corporation, Houston, TX | 49 CFR 173.304(a)(2) | To authorize the transportation in commerce of chlorine in uninsulated DOT Specification 3AAX cylinders permanently mounted on a motor vehicle. (mode 1)
12741-N | DOT-E 12741 | Thunderbird Cylinder Inc., Phoenix, AZ | 49 CFR 172.203(a), 172.301(c), 173.302(c)(2), (3), (4), (5), 173.34(e)(1), (e)(4), (e)(8)(ii), (e)(8)(iii), 173.34(e)(14), (e)(16) | To authorize the transportation in commerce of certain DOT Specification 3A and 3AA cylinders which have been alternatively ultrasonically retested for sue in transporting Division 2.1, 2.2 and 2.3 materials. (modes 1, 2, 3, 4, 5)
12800-N | DOT-E 12800 | Department of Energy (DOE), Washington, DC | 49 CFR 173.411(b)(2) | To authorize the transportation in commerce of unit train shipments in exclusive use of soil-like radioactive LSA-11 waste material in strong tight bulk packages (closed rail cars). (mode 2)
12844-N | DOT-E 12844 | Delphi Automotive Systems, Troy, MI | 49 CFR 173.301(h), 173.302(a), 175.3 | To authorize the manufacture, marking, sale and use of non-DOT specification pressure vessels for use as components of automobile vehicle safety systems. (mode 1)
12871-N | DOT-E 12871 | Southern California Edison, San Clemente, CA | 49 CFR 173.403, 173.411, 173.427(a), 173.427(b)(c), 173.465(c)&(d) | To authorize the one-time transportation of a nuclear generating-station reactor pressure vessel package transport system to a burial site. (modes 1, 2, 3)
12880-N | DOT-E 12880 | Northrop Grumman Corporation, Baltimore, MD | 49 CFR 172.102, 173.222(b)(3), 173.304(a)(2), 173.34(d) | To authorize the transportation in commerce of a specially designed device consisting of a non-DOT specification cylinder containing 25 grams of Division 2.3 material. (modes 1, 3, 4)
12898-N | DOT-E 12989 | SWS Environmental First Response, Panama City Beach, FL | 49 CFR 173.201, 173.202, 173.203, 173.226, 173.227, 173.302, 173.304, 173.34(d) | To authorize the manufacturing, marking, sale and use of a non-DOT specification salvage cylinder for overpacking damage or leaking cylinders of pressurized and non-pressurized hazardous materials for transportation in commerce (mode 1)
12905-N | DOT-E 12905 | Railway Progress Institute, Inc., Alexandria, VA | 49 CFR 172.203(a), 172.302(c), 173.22a(a)&(b), 179.100-20(a), 179.200-24(a)&(b), 179.201-10(a), 179.220-25 | To authorize the transportation in commerce of various hazardous materials on rail cars without the required head stamping and without the exemption number on the rail car or the shipping paper. (mode 2)
12920-N | DOT-E 12920 | Epichem, Inc., Haverhill, MA | 49 CFR 173.181(c) | To authorize the transportation in commerce of pyrophoric materials in combination packagings with inner containers that exceed currently authorized quantities. (modes 1, 3)
12925-N | DOT-E 12925 | U.S. Department of Energy, Oak Ridge, TN | 49 CFR 173.244 | To authorize the one-time, one-way transportation in commerce of solidified sodium metal in certain non-DOT specification bulk packaging. (mode 1)
12926-N | DOT-E 12926 | S.C. Johnson & Son, Inc., Washington, DC | 49 CFR 173.306(a)(1) | To authorize the transportation in commerce of aersols, non-flammable, Division 2.2 in non-DOT specification containers. (mode 1)
12927-N | DOT-E 12927 | Tri-Wall, A Weyerhaeuser Business, Butler, IN | 49 CFR 173.12(b)(2)(i) | To authorize the manufacture, marking and sale of a corrugated fiberboard box for use as the outer packaging for lab pack applications. (mode 1)
12930-N | DOT-E 12930 | Roeder Cartage Company, Inc., Lima, OH | 49 CFR 180.407(c), (e) & (f) | To authorize the transportation of certain lined DOT Specification cargo tanks which are not subject to the internal visual inspections for use in transporting certain Class 8 hazardous materials. (modes 1, 3)
12946-N | DOT-E 12946 | Baker Atlas, Houston, TX | 49 CFR 173.304 | To authorize the one-time transportation in commerce of 60 non-DOT specification cylinders for disposal containing chlorine trifluoride, Division 2.3, subsidiary hazards 5.1, 8 PIH Zone B. (mode 1)
12956-N | DOT-E 12956 | Frazee Industries, Incorporated, San Diego, CA | 49 CFR 172.301(c), Part 172, Subpart C | To authorize the transportation in commerce of combination packagings of 1 gallon and 5 gallon steel containers without overpack or shipping papers from the manufacturing facility to the distribution center. (mode 1)
12969-N | DOT-E 12969 | Arrowhead Industrial Services Inc., Graham, NC | 49 CFR 172.203(a), 172.301(c), 173.34(d) | To authorize the transportation in commerce of non-DOT specification cylinders containing Division 2.2 material overpacked in strong outside packaging for transporting to remote test sites. (mode 1)
12970-N | DOT-E 12970 | IMR Corporation, Tulsa, OK | 49 CFR 172.101(c) | To authorize the transportation in commerce of limited quantities of hazardous material with alternative shipping name on shipping papers. (mode 1)
12978-N | DOT-E 12978 | Genesis Environmental Ltd., McKeesport, PA | 49 CFR 172.101 Col. 8(b) & 8(c), 173.197 | To authorize the transportation in commerce of solid regulated medical waste in non-DOT specification packaging consisting of a bulk outer packaging and a non-bulk inner packaging. (mode 1)
12979-N | DOT-E 12979 | Medical Microwave, Inc., Livington, NJ | 49 CFR 172.101 Col. 8(b) & 8(c), 173.197 | To authorize the transportation in commerce of solid regulated medical in non-DOT specification packaging consisting of a bulk outer packaging and non-bulk inner packaging. (mode 1)
EMERGENCY EXEMPTIONS
EE 6611-M | DOT-E 6611 | Gardner Cryogenics, Lehigh, PA | 49 CFR 172.203(a), 173.318, 176.76(h), 177.840, 178.338 | Modification exemption to insert effective date in marking requirement. (modes 1, 3)
EE 6765-M | DOT-E 6765 | Gardner Cryogenics, Bethlehem, PA | 49 CFR 172.203, 173.318 | Modification exemption to place a sticker on the specification plate identifying the exemption authorizing use of the portable tank. (modes 1, 3)
EE 7737-M | DOT-E 7737 | Catalina Cylinders, Hampton, VA | 49 CFR 173.192, 173.201(c), 173.302(a), 173.304(a), 173.304(d), 173.337, 175.3, 178.42 | Emergency request to modify exemption to remove “Catalina” from the cylinder marking paragraph of the exemption. (modes 1, 2, 3, 4)
EE 8556-M | DOT-E 8556 | Gardner Cryogenics, Lehigh, PA | 49 CFR 173.318, 176.76(g)(1), 178.338 | Exemption request to modify exemption to insert effective date for marking requirement. (modes 1, 2)
EE 8995-M | DOT-E 8995 | BASF, Mount Olive, NJ | 49 CFR 173.315(a)(1), 174.63(c)(1) | Emergency request to modify DOT-E 8995 to authorize tanks up to 2,050 gallon capacity. (modes 1, 2, 3)
EE 9266-M | DOT-E 9266 | Gold Inspection Service, Inc., Kingwood, TX | 49 CFR173.315, 178.245 | Emergency request to add additional materials to this exemption. (modes 1, 2, 3)
EE 11167-M | DOT-E 11167 | Columbiana Boiler Company, Columbiana, OH | 49 CFR 172.101, 173.240, 173.241, 173.242, 173.243, 173.244, 173.245 |
EE 12855-M | DOT-E 12855 | KRATON Polymers U.S. LLC, Belpre, OH | 49 CFR 172.302(c), 173.240 | Emergency request to modify exemption to transport additional pressure vessels. (mode 1)
EE 12919-M | DOT-E 12919 | Acambis, Inc., Canton, MA | 49 CFR 173.196(b), 178.609 | Emergency modification request to extend expiration date and prohibit dry ice from being present in package. (mode 1)
EE 12959-N | DOT-E 12959 | Sara Export Import, Escondido, CA | 49 CFR 172.102 SP N10, 172.301(c), 173.21(i) | Emergency request to transport unapproved lighters by vessel to Hong Kong to be destroyed. (mode 4)
EE 12974-N | DOT-E 12974 | ShipMate, Inc., Torrance, CA | 49 CFR 172.203(a), 172.300(a), 172.301(c), 172.324 | Emergency request to transport packages of hazardous materials that were incorrectly marked “RQ” indicating the package contains a hazardous substance when it does not. (modes 1, 2, 3, 4, 5)
EE 12975-N | DOT-E 12975 | Monsanto Company, St. Louis, MO | 49 CFR 178.270-6 | Request for an emergency exemption to transport a damaged IMO portable tank. (modes 1, 2)
EE 12976-N | DOT-E 12976 | University of Pittsburgh, Pittsburgh, PA | 49 CFR 172.302(c), 173.196 | Emergency request to transport live non-human primates infected with Division 6.2 materials from an existing animal facility to a newly constructed facility 15 miles away in non-specification packaging. (mode 1)
EE 12977-N | DOT-E 12977 | JCI Jones Chemicals, Barberton, OH | 49 CFR 172.302(c), 173.24(b), 179.300-12(b), 179.300-13(a), 179.300-14 | Request for an emergency exemption to transport a leaking ton cylinder that has been fitted with an emergency B kit to prevent leaking during transportation. (mode 1)
EE 12981-N | DOT-E 12981 | Airgas, Inc., Cheyenne, WY | 49 CFR 172.203(a), 173.315(n)(2) | Emergency request for alternative to emergency discharge control requirement. (mode 1)
EE 12983-N | DOT-E 12983 | Harcros Chemicals, Inc., Kansas City, KS | 49 CFR 172.302(c), 173.24(b), 179.300-12(b), 179.300-13(a), 179.300-14 | Request for an emergency exemption to transport a leaking ton cylinder that has been fitted with a B kit to prevent leaking during transportation. (mode 1)
EE 12984-N | DOT-E 12984 | DPC Industries, Inc., Houston, TX | 49 CFR 172.301(c), 173.34(d) | Emergency request to transport a 3A480 cylinder containing chlorine that has developed a leak at the fuze plugs and has a Chlorine Institute A Kit applied. (mode 1)
EE 12985-N | DOT-E 12985 | Allied Universal Corp., Miami, FL | 49 CFR 172.302(c), 173.24(b), 179.300-12(b), 179.300-13(a), 179.300-14 | Request for an emergency exemption to authorize the transportation of a leaking ton container that has been fitted with a B kit to prevent leaking during transportation. (mode 1)
EE 12986-N | DOT-E 12986 | Columbia Gas Transmission Corp, Fairfax, VA | 49 CFR 173.302(a)(1), 173.304(a), (d) | Emergency request to use an FRP-1 cylinder to transport natural gas (mode 1)
EE 12993-N | DOT-E 12993 | Transportation Services Unlimited, Inc., Tampa, FL | 49 CFR 172.302(c), 173.24(b), 179.300-12(b), 179.300-13(a), 179.300-14 | Request for emergency exemption to transport a leaking ton container that has been fitted with a B kit to prevent leakage during transportation. (mode 1)
EE 13002-N | DOT-E 13002 | U.S. Department of Defense, Washington, DC | 49 172.301(c), 173.203(a), 173.306(f)(1) | Request for an emergency exemption to transport a division 2.2 material in diaphram and bladder type accumulator. (modes 1, 2, 3, 4)
EE 13005-N | DOT-E 13005 | JCI Jones Chemicals, Inc., Torrance, CA | 49 CFR 172.302(c), 173.24(b), 179.300-12(b), 179.300-13(a), 179.300-14 | Request for an emergency exemption to transport a leaking ton cylinder that has been fitted with a B kit to prevent leaking during transportation. (mode 1)
EE 13006-N | DOT-E 13006 | DXI Industries, Inc., Houston, TX | 49 CFR 172.302(c), 173.24(b), 179.300-12(b), 179.300-13(a), 179.300-14 | Request for emergency exemption to transport a leaking ton cylinder that has been fitted with a B kit. (mode 1)
EE 13007-M | DOT-E 13007 | Slurry Explosive Corporation, Columbus, KS | 49 CFR 172.301(c), 173.24a(b)(2) | To authorize an additional commodity to an emergency exemption. (mode 1)
EE 13008-N | DOT-E 13008 | U.S. Department of Agriculture, Forest Service, Missoula, MT | 49 CFR 173.202(c) | Request for emergency exemption to authorize the transportation of gelled gasoline in a non-DOT specification container. (mode 1)
EE 13009-N | DOT-E 13009 | Jones Chemicals, Inc., Milford, VA | 49 CFR 172.301(c), 173.34(d) | Emergency request to transport a 3A480 cylinder of chlorine that developed a leak from the valve and has a Chlorine Institute approved A-Kit applied. (mode 1)
EE 13011-N | DOT-E 13011 | Allied Universal Corp., Miami, FL | 49 CFR 172.302(c), 173.24(b), 179.300-12(b), 179.300-13(a), 179.300-14 | Request for emergency exemption to transport a leaking ton cylinder containing sulfur dioxide that had been fitted with a B kit to prevent leaking during transportation. (mode 1)
EE 13014-N | DOT-E 13014 | Acambis, Inc., Cambridge, MA | 49 CFR 173.196, 178.609 | Emergency request to transport a solid infectious substance in a non-specification packaging. (mode 1)
EE 13014-M | DOT-E 13014 | Acambis, Canton, MA | 49 CFR 173.196, 178.609 | To authorize an additional location. (mode 1)
EE 13015-N | DOT-E 13015 | BOC Gases, Murray Hill, NJ | 49 CFR 172.203(a), 172.301(c), 173.400a(a)(1), 178.35(f) | Emergency request for authorization to transport cylinders that are fitted with cylinder collars that obscure required marking. (mode 1)
EE 13016-N | DOT-E 13016 | Carrier Transicold, Syracuse, NY | 49 CFR 172.301(c), 173.24(b)(1) | Request for emergency exemption to authorize the release of carbon dioxide gas in freight containers during transportation. (modes 1, 2, 3)
EE 13017-N | DOT-E 13017 | Harcros Chemicals, Inc., Kansas City, KS | 49 CFR 172.302(c), 173.24(b), 179.300-12(b), 179.300-13(a), 179.300-14 | Request for an emergency exemption to transport a leaking ton cylinder that has been fitted with a B kit to prevent leaking during transportation. (mode 1)
EE 13018-N | DOT-E 13018 | JCI Jones Chemicals, Charlotte, NC | 49 CFR 173.24 | Request emergency exemption to transport a leaking ton cylinder that has been fitted with a B kit to prevent leaking during transportation. (mode 1)
EE 13019-N | DOT-E 13019 | JCI Jones Chemicals, Inc., Cadedonia, NY | 49 CFR 172.302(c), 179.300-12(b), 179.300-13(a), 179.300-14 | Emergency request to transport a DOT 106A500 tank car tank containing Chlorine which has developed a leak and has a Chlorine Institute B Kit applied. (mode 1)
EE 13030-N | DOT-E 13030 | DPC Industries, Inc., Houston, TX | 49 CFR 172.301(c), 173.34(d) | Emergency request to transport a cylinder of chlorine that has developed a leak and has a Chlorine Institute A Kit applied. (mode 1)
EE 13031-N | DOT-E 13031 | Harcros Chemicals, Kansas City, KS | 49 CFR 172.302(c), 179.300-12(b), 179.300-13(a), 179.300-14 | Emergency request to authorize the transportation of a DOT 106A500 tank car tank containing chlorine that has developed a leak and has a Chlorine Institute B Kit applied.
EE 13035-N | DOT-E 13035 | JCI Jones Chemicals, Inc., Caledonia, NY | 49 CFR 172.302(c), 179.300-12(b), 179.300-13(a), 179.300-14 | Emergency request to authorize the transportation of a DOT 106A500 tank car tank containing chlorine that has developed a leak and has a Chlorine Institute B Kit applied. (mode 1)
EE 13037-N | DOT-E 13037 | Brenntag Mid-South, Inc., Saint Louis, MO | 49 CFR 172.301(c), 173.304(a)(2), 173.34(d) | Emergency request to authorize the transportation of a DOT 4B300 cylinder containing sulfur dioxide that has developed a leak and is contained in a salvage cylinder. (mode 1)
EE 13038-N | DOT-E 13038 | Brenntag Mid-South, Inc., St. Louis, MO | 49 CFR 172.302(c), 179.300-12(b), 179.300-13(a), 179.300-14 | Emergency request to authorize the transportation of a DOT 106A500X tank car tank containing chlorine that has developed a leak and has a Chlorine Institute B Kit applied. (mode 1)
EE 13039-N | DOT-E 13039 | Airgas, East, Binghamton, NY | 49 CFR 172.301(c), 173.34(d) | Emergency request to authorize the one-time transportation of sulfur dioxide in a DOT Specification 3A480 cylinder equipped with a Chlorine Institute Emergency “A-Kit” to prevent leakage during transportation. (mode 1)
EE 13041-N | DOT-E 13041 | Department of State, Sterling, VA | 49 CFR 172.101, Table Column 8C | Emergency request to authorize the transportation of solid materials that are contaminated with or suspected to be contaminated with anthrax. (mode 1)
EE 13042-N | DOT-E 13042 | Department of State, Sterling, VA | 49 CFR 172.101, Table Column 8C | Emergency request to authorize the transportation of solid materials contaminated with or suspected of being contaminated with anthrax bacteria or spores in a bulk combination packaging. (mode 1)
EE 13043-N | DOT-E 13043 | JCI Jones Chemicals, Inc., Beech Grove, IN | 49 CFR 172.301(c), 173.24(b), 179.300-12(b), 179.300-13(a), 179.300-14 | Request to transport a leaking ton container that has been fitted with a B kit to prevent leaking during transportation. (mode 1)
EE 13044-N | DOT-E 13044 | Hawkins, Inc., Minneapolis, MN | 49 CFR 172.301(c), 173.34(d) | Request for an emergency exemption to transport a leaking ton cylinder that has been fitted an A kit. (mode 1)
EE 13045-N | DOT-E 13045 | Department of State, Sterling, VA | 49 CFR 172.101, Table Column 8C | Emergency request to authorize the transportation in commerce for disposal of solid materials contaminated with or suspected to be contaminated with anthrax bacteria or spores in alternative packaging. (mode 1).

Denials
7951-X | Request by Rod's Food Products City of Industry, CA to renew exemption authorizing the transport of an aerosol foodstuff in a nonrefillable metal container, complying with DOT Specification 2P with certain exceptions denied June 17, 2002 due to lack of response to a request for additional information.
8554-X | Request by M.J. Baxter Drilling Co. El Cajon, CA to renew exemption authorizing the transport of propellant explosives and blasting agents in DOT Specification MC-306, MC-307, and MC-312 cargo tanks denied June 17, 2002 due to lack of response to a request for additional information.
8627-X | Request by Process Chemicals, Inc. Odessa, TX to renew exemption authorizing the shipment of various Class 8 or Class 3 materials (oil well treating compounds) contained in six separate 60-gallon steel tanks firmly mounted on the chassis of a truck denied June 17, 2002 due to lack of response to a request for additional information.
10898-X | Request by Gulf Controls Corporations Tampa, FL to renew exemption authorizing the transportation of a Division 2.2 material (nitrogen) in diaphragm and bladder type accumulators denied June 17, 2002 due to lack of response to a request for additional information.
12928-N | Request by Pacer Global Logistics Dublin, OH to authorize the transportation in commerce of rail cars containing various hazardous materials to be transported with alternative shipping papers denied May 31, 2002.
12933-N | Request by In-X Corporation Denver, CO to authorize the transportation in commerce of a specially designed device equipped with a small cylindrical pressure vessel containing limited quantity of helium gas overpacked in cardboard containers denied April 3, 2002.
12967-N | Request by Reilly Industries, Inc. Indianapolis, IN to authorize the transportation in commerce of fused solid coal tar enamel in non-DOT specification open-top or closed-top sift proof metal packagings when the amounts meet or exceed the reportable quantity denied June 6, 2002.

[FR Doc. 02-19997 Filed 8-6-02; 8:45 am]

BILLING CODE 4909-60-M